DEPARTMENT OF COMMERCE

National Oceanic and Atmospheric Administration

RIN 0648-XG981

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit application from the New England Aquarium contains all the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before May 7, 2019.

ADDRESSES: You may submit written comments by any of the following methods:

• Email: NMFS.GAR.EFP@noaa.gov. Include in the subject line “Comments on NEAQ Ropless Fishing EFP.”

• Mail: Michael Pentony, Regional Administrator, NMFS, Greater Atlantic Regional Fisheries Office, 55 Great Republic Drive, Gloucester, MA 01930. Mark the outside of the envelope “Comments on NEAQ Ropeless Fishing EFP.”

FOR FURTHER INFORMATION CONTACT: Laura Hansen, Fishery Management Specialist, (978) 281-9225.

SUPPLEMENTARY INFORMATION: The New England Aquarium (NEAQ) submitted a complete application for an Exempted Fishing Permit (EFP) on March 25, 2019, to conduct fishing activities that the regulations would otherwise restrict. NEAQ is requesting an exemption from Federal lobster regulations that would authorize two federally-permitted commercial lobster vessels to participate in a ropeless lobster gear study. NEAQ is requesting an exemption from the following regulation:

1. Gear marking requirements to allow for the use of a single buoy marker on a trawl of more than three traps (50 CFR 697.21(b)(2)).

The purpose of this study is to test a prototype ropeless fishing system as a potential technique to prevent entanglements of protected species, primarily North Atlantic right whales. This study is funded through the Bycatch Reduction Engineering Program (NA18NMF4720279).

The EFP would authorize two participating vessels to deploy two experimental trawls consisting of five or more traps. Experimental trawls would have a rope spool, fitted with an acoustic release, deployed on one end of the trawl, with a buoy line attached to the other. Soak time would be between 2-5 days, but may be modified depending on what each fisherman decides is appropriate for fishing. Sampling would occur from May to September, 2019 in Lobster Conservation Management Area 3. Initial deployments would be overseen by a Woods Hole Oceanographic Institute engineering team, but later would be observed by NEAQ personnel. There would be a total of 42 deployments of experimental trawls.

If approved, the applicant may request minor modifications and extensions to the EFP throughout the year. EFP modifications and extensions may be granted without further notice if they are deemed essential to facilitate completion of the proposed research and have minimal impacts that do not change the scope or impact of the initially approved EFP request. The EFP would prohibit any fishing activity conducted outside the scope of the exempted fishing activities.

Authority: 16 U.S.C. 1801 et seq.

Dated: April 16, 2019.
Alan D. Risenhoover,
Director, Office of Sustainable Fisheries, National Marine Fisheries Service.

[FR Doc. 2019-08023 Filed 4-19-19; 8:45 am]

BILLING CODE 3510-22-P